FEDERAL COMMUNICATIONS COMMISSION

47 CFR Part 73

[DA 00-2017, MM Docket No. 00-158, RM-9921]

Radio Broadcasting Services; Alamo, NM

AGENCY: Federal Communications Commission.

ACTION: Proposed rule.

SUMMARY: The Commission requests comments on a petition filed by Alamo Navajo School Board, Inc., seeking the allotment of Channel 298A, as a noncommercial educational channel, to Alamo community, NM. Channel 298A can be allotted to Alamo Community at coordinates 34-25-01 NL; 107-30-04 WL. Mexican concurrence in the allotment must be obtained since Alamo Community is located within 320 kilometers (199 miles) of the U.S.-Mexican border. Petitioner is requested to provide further information concerning Alamo Community's center city reference coordinates in order to determine whether the proposed allotment would comply with the signal coverage requirements contained in Section 73.315 of the Commission's Rules. In addition, petitioner is requested to provide further information concerning the reservation of the channel for noncommerical educational use.

DATES: Comments must be filed on or before October 23, 2000, and reply comments on or before November 7, 2000.

ADDRESSES: Federal Communications Commission, 445 12th Street, SW., Room TW-A325, Washington, DC 20554. In addition to filing comments with the FCC, interested parties should serve the petitioner, or its counsel or consultant, as follows: Burton Apache, President, The Alamo Navajo School Board, Inc., P.O. Box 907, Magdalena, NM 87825 (Petitioner) and Don Davis, 800 Wellesley N.E., Albuquerque, NM 87106 (Technical Consultant to petitioner).

FOR FURTHER INFORMATION CONTACT: Leslie K. Shapiro, Mass Media Bureau, (202) 418-2180.

SUPPLEMENTARY INFORMATION: This is a synopsis of the Commission's Notice of Proposed Rule Making, MM Docket No. 00-158, adopted August 23, 2000, and released September 1, 2000. The full text of this Commission decision is available for inspection and copying during normal business hours in the FCC Reference Center, 445 12th Street, SW., Washington, DC. The complete text of this decision may also be purchased from the Commission's copy contractors, International Transcription Services, Inc., 1231 20th Street, NW., Washington, DC. 20036, (202) 857-3800, facsimile (202) 857-3805.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

Federal Communications Commission.
John A. Karousos,
Chief, Allocations Branch, Policy and Rules Division, Mass Media Bureau.

[FR Doc. 00-23693 Filed 9-14-00; 8:45 am]

BILLING CODE 6712-01-P